DEPARTMENT OF THE INTERIOR

National Park Service

[N6940; NPS-WASO-NAGPRA-NPS0042046; PPWOCRADN0-PCU00RP14.R50000]

Notice of Inventory Completion: La Sierra University Museum, Riverside, CA

AGENCY: National Park Service, Interior.

ACTION: Notice.

SUMMARY: In accordance with the Native American Graves Protection and Repatriation Act (NAGPRA), the La Sierra University Museum has completed an inventory of human remains and have determined that there is a cultural affiliation between the human remains and Native Hawaiian organizations or Indian Tribes in this notice.

DATES: Repatriation of the human remains in this notice may occur on or after March 25, 2026.

ADDRESSES: Send written requests for repatriation of the human remains in this notice to La Sierra University, 4500 Riverwalk Pkwy., Riverside, CA 92505, email naturalhistory@lasierra.edu.

SUPPLEMENTARY INFORMATION: This notice is published as part of the National Park Service's administrative responsibilities under NAGPRA. The determinations in this notice are the sole responsibility of the La Sierra University Museum, and additional information on the determinations in this notice, including the results of consultation, can be found in its inventory or related records. The National Park Service is not responsible for the determinations in this notice.

Abstract of Information Available

Based on the available information, ancestral human remains representing, at least, one individual has been reasonably identified. No associated funerary objects are present. This ancestor was identified during the inventory of a stored collection. According to a handwritten document from the donor found with this ancestor, the remains were exhumed from a burial site on the Island of Hawai'i during the donor's medical residency. There is no reliable information present for the specific location and time of this exhumation, however, timeframe can be constructed based on extraneous evidence that places the donor on the island of Hawai'i between approx. 1959-1975. Further information likely indicates that the geographic origin of this ancestor's burial was along the western shores of the island, possibly what is now Kealakekua Bay State Park or Puuhonua o Hōnaunau. According to available La Sierra University records, no known hazardous substances are present.

Cultural Affiliation

Based on the information available and the results of consultation, cultural affiliation is reasonably identified by the information available about the human remains. described in this notice.

Determinations

The La Sierra University Museum has determined that:

• The ancestral remains described in this notice represent the physical remains of one individual of Native Hawaiian ancestry.

• There is a reasonable connection between the ancestral human remains described in this notice and the Hui Iwi Kuamo'o.

Requests for Repatriation

Written requests for repatriation of the human remains in this notice must be sent to the authorized representative identified in this notice under ADDRESSES. Requests for repatriation may be submitted by:

1. Any one or more of the Native Hawaiian organizations or Indian Tribes identified in this notice.

2. Any lineal descendant, Native Hawaiian organization or Indian Tribe not identified in this notice who shows, by a preponderance of the evidence, that the requestor is a lineal descendant or culturally affiliated Native Hawaiian organization or Indian Tribe.

Repatriation of the human remains described in this notice to a requestor may occur on or after March 25, 2026. If competing requests for repatriation are received, the La Sierra University Museum must determine the most appropriate requestor prior to repatriation. Requests for joint repatriation of the human remains are considered a single request and not competing requests. The La Sierra University Museum is responsible for sending a copy of this notice to the lineal descendant and any other consulting parties.

Authority: Native American Graves Protection and Repatriation Act, 25 U.S.C. 3003, and the implementing regulations, 43 CFR 10.10.

Dated: February 13, 2026.
Melanie O'Brien,
Manager, National NAGPRA Program.

[FR Doc. 2026-03564 Filed 2-20-26; 8:45 am]

BILLING CODE 4312-52-P